ENVIRONMENTAL PROTECTION AGENCY

[ER-FRL-8586-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 6, 2008 (73 FR 19833).

Draft EISs

EIS No. 20070453, ERP No. D-BLM-J65497-UT, Monticello Field Office Resource Management Plan, To Guide the Management of Public Land, Southern two-third of San Juan County and small portion on the Northern boundary within Grand County, UT.

Summary: EPA expressed environmental concern about the air quality analysis and proposed changes in visual resource management. Rating EC2.

EIS No. 20080290, ERP No. D-STB-F53019-00, Elgin, Joliet & Eastern Railroad (Finance Docket No. 35087) Proposed Acquisition by Canadian National (CN) Railway and Grand Trunk Corporation to connect all Five of CN's Rail Lines, Chicago, Illinois and Gary, Indiana.

Summary: EPA expressed environmental concerns about hazardous materials transport/rail safety, air quality, surface water, wetlands, floodplains, environmental justice, noise, and habitat impacts. EPA's recommendations include an adaptive management program, spill prevention/containment mitigation, and dropping one rail-to-rail connection. Rating EC2.

EIS No. 20080313, ERP No. D-UAF-J11024-UT, White Elk Military Operations Area, Propose to Establish a New Military Operations Area (MOA) Linked to the Utah Test, Utah and Training Range (UTTR) Airspaces Nevada, Hill Air Force Base, UT and Nevada.

Summary: EPA has no objections to the proposed action. Rating LO.

EIS No. 20080327, ERP No. D-FHW-J40183-MT, Russell Street/South 3rd Street Reconstruction Project, To Address Current and Projected Safety and Operational Needs, Funding and U.S. Army COE Section 404 Permit, City of Missoula, Missoula County, MT.

Summary: EPA expressed concern about air and water construction impacts and recommended additional analysis and information to fully assess and mitigate impacts of the proposed action. Rating EC2.

EIS No. 20080365, ERP No. D-NPS-C61012-NY, Fort Stanwix National Monument General Management Plan, Implementation, Funding, City of Rome, Oneida County, NY.

Summary: EPA has no objections to the preferred alternative. Rating LO.

Final EISs

EIS No. 20080339, ERP No. F-BLM-J65497-UT, Monticello Field Office Resource Management Plan, To Guide the Management of Public Land, Southern two-third of San Juan County and small portion on the Northern boundary within Grand County, UT.

Summary: While the Preferred Alternative should increase the level of overall resource protection, EPA continues to have environmental concerns with potential adverse impacts to air quality from reasonably foreseeable oil and gas development and a reduction of landscape acres in the Class I and II of the Visual Resource Inventory.

EIS No. 20080354, ERP No. F-NPS-D61058-VA, Manassas National Battlefield Park General Management Plan, Implementation, Fairfax and Prince William Counties, VA.

Summary: EPA continues to have environmental concerns about impacts to wetlands and riparian areas, especially forested wetlands, impacts to interior trees and habitat and mitigation for wetlands and removed forested acres.

EIS No. 20080359, ERP No. F-BIA-J65498-WY, Riverton Dome Coal Bed Natural Gas (CBNG) and Conventional Gas Development Project, Construction of Well Pads, Roads, Pipelines, and Production Facilities, Wind River Indian Reservation (WRIR), Fremont Count, WY.

Summary: EPA continues to have environmental concern about surface water impacts if the water management strategy changes.

EIS No. 20080366, ERP No. F-AFS-J65483-MT, Butte Resource Management Plan, Implementation, Beaverhead, Broadwater, Deerlodge, Gallatin, Jefferson, Lewis and Clark, Silver Bow and Park Counties, MT.

Summary: EPA continues to have environmental concern about riparian impacts and impacts from motorized uses.

EIS No. 20080368, ERP No. F-AFS-J65508-MT, Debaugan Fuels Reduction Project, Proposed Fuels Reduction Activities, Lolo National Forest, Superior Ranger District, Mineral County, MT.

Summary: EPA continues to express concern about water quality impacts, and noted the need for continuing road maintenance in the project area, and the need for consistency with TMDLs.

EIS No. 20080377, ERP No. F-AFS-J65514-MT, Sheppard Creek Post-Fire Project, Timber Salvage, Implementation, Flathead National Forest, Flathead and Lincoln Counties, MT.

Summary: EPA continues to have environmental concern about water quality impacts to Sheppard Creek.

Dated: October 21, 2008.
Ken Mittelholtz,
Environmental Protection Specialist, Office of Federal Activities.

[FR Doc. E8-25454 Filed 10-23-08; 8:45 am]

BILLING CODE 6560-50-P